DEPARTMENT OF EDUCATION

President's Advisory 1776 Commission

AGENCY: Office of Communications and Outreach, U.S. Department of Education.

ACTION: Announcement of an open meeting.

SUMMARY: This notice sets forth the agenda, time, and instructions for public participation in the January 15, 2021, meeting of the President's Advisory 1776 Commission (“The 1776 Commission”) and provides information to members of the public regarding the meeting. Notice of this meeting is required under Section 10(a)(2) of the Federal Advisory Committee Act (FACA). This notice is being published less than 15 days from the meeting date due to the exceptional and immediate need to establish next steps for the work of The 1776 Commission in light of ongoing attacks on the American founding and critical discussion around the nation's core principles for further enjoyment of liberty and striving “to form a more perfect Union.”

DATES: The meeting of The 1776 Commission will be held on Friday, January 15, 2021, from 1:00 p.m. to 2:00 p.m. Eastern Standard Time at the Eisenhower Executive Office Building, 1650 Pennsylvania Avenue NW, Washington, DC 20502. Members of the public can attend virtually.

FOR FURTHER INFORMATION CONTACT: Adam Honeysett, Designated Federal Official, Office of Communications and Outreach, U.S. Department of Education, 400 Maryland Avenue SW, Room 7W220, Washington, DC 20202, telephone: (202) 401-3003 or email: Adam.Honeysett@ed.gov.

SUPPLEMENTARY INFORMATION: The 1776 Commission's Statutory Authority and Function: The 1776 Commission is established under Executive Order 13958 (November 2, 2020). The 1776 Commission's duties are to advise the President regarding how to better enable a rising generation to understand the history and principles of the founding of the United States in 1776 and to strive to form a more perfect Union by: (i) Producing a report, within 1 year of the date of Executive Order 13958, which shall be publicly disseminated, regarding the core principles of the American founding and how these principles may be understood to further enjoyment of “the blessings of liberty” and to promote our striving “to form a more perfect Union;” (ii) offering recommendations regarding the Federal Government's plans to celebrate the 250th anniversary of American Independence and coordinating with relevant external stakeholders on the United States Semiquincentennial Commission's plans; (iii) facilitating the development and implementation of a “Presidential 1776 Award” to recognize student knowledge of the American founding, including knowledge about the Founders, the Declaration of Independence, the Constitutional Convention, and the great soldiers and battles of the American Revolutionary War; (iv) advising executive departments and agencies with regard to their efforts to ensure patriotic education—meaning the presentation of the history of the American founding and foundational principles, the examination of how the United States has grown closer to those principles throughout its history, and the explanation of why commitment to America's aspirations is beneficial and justified—and provide such education to the public at national parks, battlefields, monuments, museums, installations, landmarks, cemeteries, and other places important to the American Revolution and the American founding, as appropriate and consistent with applicable law; (v) advising agencies on prioritizing the American founding in Federal grants and initiatives, including those described in section 4 of Executive Order 13958, as appropriate and consistent with applicable law; and (vi) facilitating and promoting other activities to support public knowledge and patriotic education on the American Revolution and the American founding, as appropriate and consistent with applicable law.

Meeting Agenda: The agenda for The 1776 Commission meeting is consideration of a possible report as called for under its charter.

Instructions for Accessing the Meeting

Members of the public can access the meeting by registering to obtain dial-in instructions by emailing Adam Honeysett at Adam.Honeysett@ed.gov. Due to technical constraints, registration is limited to 200 participants and will be available on a first-come, first-served basis.

Access to Records of the Meeting: The Department will post the official report of the meeting on the Department's website within 90 days after the meeting. In addition, pursuant to the FACA, the public may request to inspect records of the meeting at 400 Maryland Avenue SW, Washington, DC, by emailing Adam.Honeysett@ed.gov or by phoning (202) 401-3003 to schedule an appointment.

Public Comment: Members of the public may submit written statements regarding the work of The 1776 Commission via Adam.Honeysett@ed.gov (please use the subject line “January 2021 1776 Commission Meeting Public Comment”) or by letter to Adam Honeysett, Office of Communication and Outreach, U.S. Department of Education, 400 Maryland Avenue SW, 7W220, Washington, DC 20202, by Thursday, January 14, 2021.

Reasonable Accommodations: The meeting platform and access code are accessible to individuals with disabilities. If you will need an auxiliary aid or service for the meeting (e.g., interpreting service, assistive listening device, or materials in an alternate format), notify the contact person listed in this notice not later than Thursday, January 14, 2021. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Executive Order 13958 (November 2, 2020).

Elizabeth Hill,
Delegated to perform the duties of the Assistant Secretary, Communications Director, Office of Communications and Outreach.

[FR Doc. 2021-00525 Filed 1-8-21; 4:15 pm]

BILLING CODE P